DEPARTMENT OF LABOR

Employment and Training Administration

[TA-W-80,207]

Notice of Affirmative Determination Regarding Application for Reconsideration; Tecumseh Products Corporation, Ann Arbor, MI

By application dated August 18, 2011, a petitioner requested administrative reconsideration of the termination of investigation regarding workers' eligibility to apply for Trade Adjustment Assistance (TAA) applicable to workers and former workers of Tecumseh Products Corporation, Ann Arbor, Michigan (subject firm). The termination of investigation was issued on July 1, 2011. The Department's Notice of Determination was published in the Federal Register on July 20, 2011 (76 FR 43351). The workers are engaged in activities related to the production of refrigeration compressors.

The termination was based on the Department's findings that there was not a valid worker group at the subject firm.

In the request for reconsideration, the petitioner stated that “I do not know you are defining a `worker group', but the three of us worked in the North American Engineering Organization and Greg Cowen and Trina Higgins reported to me as part of the `Lead, Records, Standards and Systems Group.' ” The petitioner also included an organizational chart and an “organization announcement” (dated December 20, 2010) regarding a re-alignment.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 15th day of September, 2011.
Del Min Amy Chen,
Certifying Officer, Office of Trade Adjustment Assistance.

[FR Doc. 2011-24476 Filed 9-22-11; 8:45 am]

BILLING CODE 4510-FN-P